DEPARTMENT OF THE INTERIOR

U.S. Geological Survey

[GX15NM00FU50100]

Agency Information Collection Activities: Request for Comments

AGENCY: U.S. Geological Survey (USGS), Interior.

ACTION: Notice of a revision of a currently approved information collection (1028-0094).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on 03/31/2016.

DATES: To ensure that your comments are considered, we must receive them on or before January 22, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0094, Energy Cooperatives to Support the National Coal Resources Data System (NCRDS) in all correspondence.

FOR FURTHER INFORMATION CONTACT: Joseph East, Eastern Energy Resources Science Center, U.S. Geological Survey, 12201 Sunrise Valley Drive, Mail Stop 956, Reston, VA 20192 (mail); 703-648-6450 (phone); or jeast@usgs.gov (email). You may also find information about this IC at www.reginfo.gov.

SUPPLEMENTARY INFORMATION:

I. Abstract

The primary objective of the National Coal Resources Data System (NCRDS) is to advance the understanding of the energy endowment of the United States (U.S.) by gathering and organizing digital geologic information related to coal, coal bed gas, shale gas, conventional and unconventional oil and gas, geothermal, and other energy resources and related information regarding these resources, along with environmental impacts from using these resources. These data are needed to support regional or national assessments concerning energy resources. Requesting external cooperation is a way for NCRDS to collect energy data and perform research and analyses on the characterization of geologic material, and obtain other information (including geophysical or seismic data, sample collection for generation of thermal maturity data) that can be used in energy resource assessments and related studies.

The USGS will issue a call for proposals to support researchers from State Geological Surveys and associated accredited universities that can provide geologic data to support NCRDS and other energy assessment projects being conducted by the USGS.

Data submitted to NCRDS by external cooperators constitute more than two-thirds of the USGS point-source stratigraphic database (USTRAT) on coal occurrence. In 2015, NCRDS supported 21 projects in 19 States. This program is conducted under various authorities, including 30 U.S.C. 208-1, 42 U.S.C. 15801, and 43 U.S.C. 31 et seq. This collection will consist of applications, proposals and reports (annual and final).

II. Data

OMB Control Number: 1028-0094.

Form Number: Various if many different forms or screen shots, otherwise provide the form number.

Title: Energy Cooperatives to Support the National Coal Resources Data System (NCRDS).

Type of Request: Renewal of existing collection.

Affected Public: Individuals; State, local and tribal governments; State Geological Surveys, universities, and businesses.

Respondent's Obligation: Required to obtain or retain benefits. Frequency of Collection: One time every 5 years for applications and final reports; annually for progress reports.

Estimated Total Number of Annual Responses: 21.

Estimated Time per Response: 25 hours.

Estimated Annual Burden Hours: 525 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Jonathan Kolak,
Acting Program Coordinator, USGS Energy Resources Program.

[FR Doc. 2015-29770 Filed 11-20-15; 8:45 am]

BILLING CODE 4338-11-P